DEPARTMENT OF ENERGY

Federal Energy Regulatory Commission

Combined Notice of Filings

October 1, 2009.

Take notice that the Commission has received the following Natural Gas Pipeline Rate and Refund Report filings:

Docket Numbers: RP93-162-021.

Applicants: Transcontinental Gas Pipe Line Company, LLC.

Description: Transcontinental Gas Pipe Line Company, LLC submits its cash-out report for the annual period 8/1/09 through 7/31/09 and its reports of cash-out refunds for the Annual Period.

Filed Date: 09/29/2009.

Accession Number: 20090929-0102.

Comment Date: 5 p.m. Eastern Time on Tuesday, October 13, 2009.

Docket Numbers: RP09-317-003.

Applicants: Texas Gas Transmission, LLC.

Description: Texas Gas Transmission, LLC submits Substitute Second Revised Sheet No. 2200 to FERC Gas Tariff, Third Revised Volume No. 1.

Filed Date: 09/30/2009.

Accession Number: 20090930-0082.

Comment Date: 5 p.m. Eastern Time on Tuesday, October 13, 2009.

Docket Numbers: RP09-747-001.

Applicants: Rockies Express Pipeline LLC.

Description: Rockies Express Pipeline LLC Substitute First Revised Sheet No. 250 to its FERC Gas Tariff, Second Revised Volume No. 1.

Filed Date: 09/30/2009.

Accession Number: 20090930-0083.

Comment Date: 5 p.m. Eastern Time on Tuesday, October 13, 2009.

Docket Numbers: RP96-272-097.

Applicants: Northern Natural Gas Company.

Description: Northern Natural Gas Company submits Seventeenth Revised Sheet No. 66B 01 et al to its FERC Gas Tariff, Fifth Revised Volume No. 1.

Filed Date: 09/30/2009.

Accession Number: 20090930-0084.

Comment Date: 5 p.m. Eastern Time on Tuesday, October 13, 2009.

Docket Numbers: RP00-305-040.

Applicants: CenterPoint Energy-Mississippi River Transmission Corporation.

Description: CenterPoint Energy—Mississippi River Transmission Corporation submits Third Revised Sheet No. 10D to its FERC Gas Tariff, Third Revised Volume No. 1.

Filed Date: 09/28/2009.

Accession Number: 20090929-0090.

Comment Date: 5 p.m. Eastern Time on Tuesday, October 13, 2009.

Docket Numbers: RP09-427-002.

Applicants: Southern Natural Gas Company.

Description: Southern Natural Gas Company submits Fifth Revised Sheet No. 1 et al to its FERC Gas Tariff, Seventh Revised Volume No. 1.

Filed Date: 09/28/2009.

Accession Number: 20090929-0091.

Comment Date: 5 p.m. Eastern Time on Tuesday, October 13, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern Time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Jr.,
Deputy Secretary.

[FR Doc. E9-24273 Filed 10-7-09; 8:45 am]

BILLING CODE 6717-01-P